DEPARTMENT OF COMMERCE

International Trade Administration

[A-823-819]

Seamless Carbon and Alloy Steel Standard, Line, and Pressure Pipe From Ukraine: Final Results of Antidumping Duty Administrative Review, 2021-2022; Correction

AGENCY: Enforcement and Compliance, International Trade Administration, Department of Commerce.

ACTION: Notice; correction.

SUMMARY: The U.S. Department of Commerce (Commerce) published notice in the Federal Register of March 6, 2024, in which Commerce issued the final results of the 2021-2022 administrative review of the antidumping duty order on seamless carbon and alloy steel standard, line, and pressure pipe (seamless pipe) from Ukraine. In that notice, Commerce incorrectly listed the name of the mandatory respondent in the rate table.

FOR FURTHER INFORMATION CONTACT: Reginald Anadio, AD/CVD Operations, Office IV, Enforcement and Compliance, International Trade Administration, U.S. Department of Commerce, 1401 Constitution Avenue NW, Washington, DC 20230; telephone: (202) 482-3166.

SUPPLEMENTARY INFORMATION:

Background

On March 6, 2024, Commerce published in the Federal Register the final results of the 2021-2022 administrative review of the antidumping duty order on seamless pipe from Ukraine.¹ In that notice, Commerce incorrectly listed “LJSC” in one of the company names in the rate table when it should have listed “PJSC.”

¹ See Seamless Carbon and Alloy Steel Standard, Line, and Pressure Pipe from Ukraine: Final Results of Antidumping Duty Administrative Review; 2021-2022, 89 FR 15974 (March 6, 2024).

Correction

In the Federal Register of March 6, 2024, in FR Doc 2024-04707, on page 15974, in the second column, correct the exporter/producer name found in the rate table to “Interpipe Ukraine LLC/PJSC Interpipe Niznedneprovsky Tube Rolling Plant/LLC Interpipe Niko Tube/Interpipe Europe S.A.”

Notification to Interested Parties

This notice is issued and published in accordance with sections 751(a)(l) and 777(i)(l) of the Tariff Act of 1930, as amended, and 19 CFR 351.213 and 19 CFR 351.221(b)(5).

Dated: March 14, 2024.
Ryan Majerus,
Deputy Assistant Secretary for Policy and Negotiations, performing the non-exclusive functions and duties of the Assistant Secretary for Enforcement and Compliance.

[FR Doc. 2024-05799 Filed 3-19-24; 8:45 am]

BILLING CODE 3510-DS-P